POSTAL SERVICE

Product Change—Priority Mail Express, Priority Mail, and USPS Ground Advantage Negotiated Service Agreements; Priority Mail, and USPS Ground Advantage Negotiated Service Agreements; Priority Mail Negotiated Service Agreements; USPS Ground Advantage Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: June 5, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
5/27/2025 | PM 844 | MC2025-1447 | K2025-1446.
5/27/2025 | PM-GA 767 | MC2024-1448 | K2025-1447.
5/27/2025 | PM 845 | MC2025-1449 | K2025-1448.
5/27/2025 | PM 846 | MC2025-1450 | K2025-1449.
5/30/2025 | PM 847 | MC2025-1454 | K2025-1450.
5/30/2025 | PM 848 | MC2025-1455 | K2025-1451.
5/30/2025 | PM 849 | MC2025-1456 | K2025-1452.
5/30/2025 | PM 850 | MC2025-1457 | K2025-1453.
5/30/2025 | PM-GA 768 | MC2025-1458 | K2025-1454.
5/30/2025 | PM 851 | MC2025-1459 | K2025-1455.
5/30/2025 | PM 852 | MC2025-1460 | K2025-1456.
5/30/2025 | PM 853 | MC2025-1461 | K2025-1457.
5/30/2025 | PM 854 | MC2025-1462 | K2025-1458.
5/30/2025 | PM 855 | MC2025-1463 | K2025-1459.
5/30/2025 | PM 856 | MC2025-1464 | K2025-1460.
5/30/2025 | PM 857 | MC2025-1465 | K2025-1461.
5/30/2025 | PM-GA 769 | MC2025-1466 | K2025-1462.
5/30/2025 | PME-PM-GA 1373 | MC2025-1467 | K2025-1463.

Documents are available at www.prc.gov.

Sean C. Robinson,
Attorney, Corporate and Postal Business Law.

[FR Doc. 2025-10188 Filed 6-4-25; 8:45 am]

BILLING CODE 7710-12-P